SMALL BUSINESS ADMINISTRATION

[Disaster Declaration # 15982 and # 15983; Arkansas Disaster Number AR-00104]

Presidential Declaration Amendment of a Major Disaster for the State of Arkansas

AGENCY: U.S. Small Business Administration.

ACTION: Amendment 1.

SUMMARY: This is an amendment of the Presidential declaration of a major disaster for the State of Arkansas (FEMA-4441-DR), dated 06/08/2019.

Incident: Severe Storms and Flooding.

Incident Period: 05/21/2019 and continuing.

DATES: Issued on 06/14/2019.

Physical Loan Application Deadline Date: 08/07/2019.

Economic Injury (EIDL) Loan Application Deadline Date: 03/09/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of ARKANSAS, dated 06/08/2019, is hereby amended to include the following areas as adversely affected by the disaster:

Primary Counties (Physical Damage and Economic Injury Loans): Arkansas, Desha, Logan, Pope.

Contiguous Counties (Economic Injury Loans Only):

Arkansas: Chicot, Drew, Johnson, Monroe, Newton, Phillips, Prairie, Searcy.

Mississippi: Bolivar, Coahoma.

All other information in the original declaration remains unchanged.

(Catalog of Federal Domestic Assistance Number 59008)

James Rivera,
Associate Administrator for Disaster Assistance.

[FR Doc. 2019-13573 Filed 6-25-19; 8:45 am]

BILLING CODE 8206-03-P